UNIFIED CARRIER REGISTRATION PLAN

Sunshine Act Meeting

TIME AND DATE: July 19, 2022, 11:00 a.m. to 3:00 p.m., Eastern time.

PLACE: This meeting will take place at the Embassy Suites by Hilton San Diego Bay Downtown, 601 Pacific Highway, San Diego, California 92101 and will be accessible via conference call and via Zoom Meeting and Screenshare. Any interested person may call (i) 1-929-205-6099 (US Toll) or 1-669-900-6833 (US Toll) or (ii) 1-877-853-5247 (US Toll Free) or 1-888-788-0099 (US Toll Free), Meeting ID: 996 4282 3624, to listen and participate in this meeting. The website to participate via Zoom Meeting and Screenshare is https://kellen.zoom.us/meeting/register/tJ0rc-ugrDgsGNC1eWqLTzqsKuNF3JDvaHpx.

STATUS: This meeting will be open to the public.

MATTERS TO BE CONSIDERED: The Unified Carrier Registration Plan Finance Subcommittee (the “Subcommittee”) will continue its work in developing and implementing the Unified Carrier Registration Plan and Agreement. The subject matter of this meeting will include:

Proposed Agenda

I. Call to Order—UCR Finance Subcommittee Chair

The UCR Finance Subcommittee Chair will welcome attendees, introduce new Subcommittee members and the new Subcommittee Vice-Chair, call the meeting to order, call roll for the Finance Subcommittee, confirm whether a quorum is present, and facilitate self-introductions.

II. Verification of Meeting Notice—UCR Executive Director

The UCR Executive Director will verify the publication of the meeting notice on the UCR website and distribution to the UCR contact list via email followed by the subsequent publication of the notice in the Federal Register.

III. Review and Approval of Finance Subcommittee Agenda and Setting of Ground Rules—UCR Finance Subcommittee Chair

For Discussion and Possible Subcommittee Action

The agenda will be reviewed, and the UCR Finance Subcommittee will consider adoption.

Ground Rules

➢ Subcommittee action only to be taken in designated areas on agenda.

IV. Review and Approval of Minutes From the March 31, 2022 Meeting—UCR Finance Subcommittee Chair

For Discussion and Possible Subcommittee Action

Draft minutes from the March 31, 2022 UCR Finance Subcommittee meeting via teleconference will be reviewed. The UCR Finance Subcommittee will consider action to approve.

V. Review and Approval of 2024 and 2025 Fee Level Recommendations for Consideration by the UCR Board- UCR Finance Subcommittee Chair and UCR Depository Manager

For Discussion and Possible Subcommittee Action

The UCR Finance Subcommittee Chair and UCR Depository Manager will present proposed 2024 and 2025 fee level recommendations for UCR Board consideration to be made to the Secretary of the U.S. Department of Transportation and the Federal Motor Carrier Safety Administration (FMCSA) as required under 49 U.S.C. Section 104504a(d)(7). The Subcommittee may take action to approve 2024 and 2025 fee level recommendations for UCR Board consideration.

VI. Development of Active Cash Management System—UCR Finance Subcommittee Chair and UCR Depository Manager

The UCR Finance Subcommittee Chair and UCR Depository Manager will lead a discussion on developing a policy that will result in an enhanced cash management system designed to increase the interest income that is earned on both administrative reserve funds and excess fees held in the UCR Depository.

VII. Renewal of UCR Contracts With Contractors (Kellen and AAG3 LLC)—UCR Finance Subcommittee Chair

For Discussion and Possible Subcommittee Action

The UCR Finance Subcommittee Chair will present proposed contract extensions between the UCR Plan and the Kellen Company (UCR Administrator) and AAG3 LLC (UCR Executive Director). The Finance Subcommittee may consider action regarding the proposed contract extensions.

VIII. Review Performance of the Three Current Pilot Projects—UCR Finance Subcommittee Chair and DSL Transportation Services, Inc. (DSL)

For Discussion and Possible Subcommittee Action

The UCR Finance Subcommittee Chair and DSL will review the performance of the three current pilot projects and may make recommendations to the UCR Board to enhance, maintain, extend, or sunset certain pilot projects.

IX. Update on the State of the United States Economy—UCR Finance Subcommittee Chair and a Representative From Truist Bank

The UCR Finance Subcommittee Chair and a representative from Truist Bank will lead a discussion regarding the general macroeconomic trends that have emerged in 2022 as well as certain foresight into emerging forces that may impact the United States economy and what actions the United States Government may consider to counteract economic disruptions. Discussion will emphasize general macroeconomic trends relating to possible impacts on the motor carrier industry.

X. Review of 2022 Administrative Expenses—UCR Depository Manager

The UCR Depository Manager will review the expenditures of the UCR Plan for the first six months ended June 30, 2022 with the Finance Subcommittee. A presentation of a forecast for the remainder of 2022 and consequently the full-year will also be presented.

XI. Preview of the 2023 Administrative Expense Budget—UCR Depository Manager

The UCR Depository Manager will provide a preview of the 2023 administrative expense budget to the Finance Subcommittee.

XII. Other Business—UCR Finance Subcommittee Chair

The UCR Finance Subcommittee Chair will call for any other items Finance Subcommittee members would like to discuss.

XIII. Adjourn—UCR Finance Subcommittee Chair

The UCR Finance Subcommittee Chair will adjourn the meeting.

The agenda will be available no later than 5:00 p.m. Eastern time, July 12, 2022 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2022-15251 Filed 7-13-22; 11:15 am]

BILLING CODE 4910-YL-P